DEPARTMENT OF COMMERCE

National Oceanic and Atmospheric Administration

[I.D. 081502G]

North Pacific Fishery Management Council; Public Meeting

AGENCY: National Marine Fisheries Service (NMFS), National Oceanic and Atmospheric Administration (NOAA), Commerce.

ACTION: Notice of public meeting.

SUMMARY: The North Pacific Fishery Management Council (NPFMC) will hold an essential fish habitat Steering Committee (EFH Committee) meeting September 16-18, 2002. The EFH Committee will discuss the following: EFH alternatives, habitat areas of particular concern (HAPC) alternatives, the preliminary fishery evaluation, mitigation alternatives for minimizing the effects of fishing and the State of Alaska Marine Protected Areas (MPA) report.

DATES: The EFH Committee meeting will be held on Monday, September 16, 2002, from 8:30 a.m. to 5:30 p.m.; on Tuesday, September 17, 2002, from 8:30 a.m. to 5:30 p.m.; on Wednesday, September 18, 2002, from 8:30 a.m. to 3 p.m.

ADDRESSES: The EFH Committee meeting will be in Kodiak, Alaska at the Fishery Industrial Technology Center (FITC), 118 Trident Way, in room 221 . For directions call FITC at 907-486-1500.

FOR FURTHER INFORMATION CONTACT: Cindy Hartmann, NMFS, Habitat Conservation Division, 709 West 9th, Suite 461, PO Box 21668, Juneau, AK 99802-1668, 907-586-7585 e-mail: Cindy. Hartmann & commat; noaa. gov; or Cathy Coon, NPFMC, 605 West 4th Avenue, Suite 306, Anchorage, AK 99501-2252, 907-271-2809,e-mail: Cathy.Coon@noaa.gov.

SUPPLEMENTARY INFORMATION:

Background

The EFH Committee was formally established by the Chair of the NPFMC in May 2001. The EFH Committee was established in response to the need to prepare a supplemental environmental impact statement (SEIS) for the EFH fishery management plan amendments. The function of the EFH Committee is to serve as a steering committee in facilitating input to NMFS on the SEIS for EFH. The EFH Committee will provide input to NMFS and the Council from industry, the conservation community, and general public as appropriate. The EFH Committee also will submit periodic updates to the Council on the SEIS for EFH. Further information on the EFH Committee can be found on the NPFMC Web site at: http://www.fakr.noaa.gov/npfmc/Committees/EFH/efh.htm.

Possible agenda items for the September 2002 EFH Committee meeting include: review and discussion of revised EFH and HAPC alternatives; finalizing EFH alternative recommendations; finalizing HAPC alternative recommendations; discussion of a nomination and evaluation process for HAPC sites and types; discussion of gear impacts on habitat; review of the preliminary fishery evaluation; discussion of impacts that are more than minimal and not temporary in nature; discussion of potential mitigation tools for each fishery including adaptive management and rationalization; discussion of how “to the extent practicable” may apply to these mitigation alternatives; recommendations on mitigation alternatives for minimizing the effects of fishing; research needs and the State of Alaska MPA report may also be discussed. The EFH Committee will develop recommendations for the October NPFMC meeting on some or all of the agenda items listed above. The EFH Committee also will discuss plans for future tasks and meetings.

For further information about the EFH SEIS, see the Notice of Intent to prepare an SEIS published to the Proposed Rules section of the Federal Register (66 FR 30396, June 6, 2001). For further information on the preliminary alternative approaches for the designation of EFH and HAPC (see 67 FR 1325, January 10, 2002).

Although other issues not contained in this agenda may come before the EFH Committee for discussion, in accordance with the Magnuson-Stevens Fishery Conservation and Management Act (Magnuson Act), those issues may not be the subject of formal action during this meeting. Formal action will be restricted to those issues specifically identified in this notice and any issues arising after publication of the notice that require emergency action under section 305(c) of the Magnuson Act, provided the public has been notified of the Committee's intent to take final action to address the emergency.

Special Accommodations

This meeting is physically accessible to people with disabilities. Requests for sign language interpretation or other auxiliary aids should be directed to Cindy Hartmann, 907-586-7235, at least 5 working days prior to the meeting date.

Dated: August 27, 2002.
Richard W. Surdi,
Acting Director, Office of Sustainable Fisheries, National Marine Fisheries Service.

[FR Doc. 02-22263 Filed 8-29-02; 8:45 am]

BILLING CODE 3510-22-S